NATIONAL TRANSPORTATION SAFETY BOARD

Sunshine Act Meeting

TIME AND DATE: 9:30 a.m., Tuesday, February 6, 2018

PLACE: NTSB Conference Center, 429 L'Enfant Plaza SW, Washington, DC 20594

STATUS: The one item is open to the public.

MATTERS TO BE CONSIDERED:

57381 | Special Investigation Report: End-of-Track Collisions at Terminal Stations, Hoboken, New Jersey, September 29, 2016, and Atlantic Terminal, Brooklyn, New York, January 4, 2017.

NEWS MEDIA CONTACT: Telephone: (202) 314-6100.

The press and public may enter the NTSB Conference Center one hour prior to the meeting for set up and seating.

Individuals requesting specific accommodations should contact Rochelle McCallister at (202) 314-6305 or by email at Rochelle.McCallister@ntsb.gov by Wednesday, January 25, 2018.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Eric Weiss at (202) 314-6100 or by email at eric.weiss@ntsb.gov.

Dated: January 16, 2018.
Candi R. Bing,
Federal Register Liaison Officer.

[FR Doc. 2018-00901 Filed 1-16-18; 11:15 am]

BILLING CODE 7533-01-P